DEPARTMENT OF TRANSPORTATION

Surface Transportation Board

[Docket No. FD 35879 (Sub-No. 1)]

BNSF Railway Company—Temporary Trackage Rights Exemption—Union Pacific Railroad Company

AGENCY: Surface Transportation Board, Department of Transportation.

ACTION: Partial revocation of exemption.

SUMMARY: Under 49 U.S.C. 10502, the Board revokes the class exemption as it pertains to the trackage rights described in Docket No. FD 35879 ¹ to permit the trackage rights to expire at midnight on October 31, 2015, in accordance with the agreement of the parties, subject to the employee protective conditions set forth in Oregon Short Line Railroad—Abandonment Portion Goshen Branch Between Firth & Ammon, in Bingham & Bonneville Counties, Idaho, 360 I.C.C. 91 (1979).

¹ In that docket, on November 25, 2014, BNSF Railway Company (BNSF) filed a verified notice of exemption under the Board's class exemption procedures at 49 CFR 1180.2(d)(7). The notice addressed an agreement in which Union Pacific Railroad Company (UP) granted local trackage rights to BNSF over UP's lines extending between: (1) UP milepost 93.2 at Stockton, Cal., on UP's Oakland Subdivision, and UP milepost 219.4 at Elsey, Cal., on UP's Canyon Subdivision, a distance of 126.2 miles; and (2) UP milepost 219.4 at Elsey and UP milepost 280.7 at Keddie, Cal., on UP's Canyon Subdivision, a distance of 61.3 miles. See BNSF Ry.—Temporary Trackage Rights Exemption—Union Pac. R.R., FD 35879 (STB served Dec. 11, 2014). BNSF notes that, because the trackage rights covered by that docket are “local” rather than “overhead” rights, they do not qualify for the Board's class exemption for temporary trackage rights at 49 CFR 1180.2(d)(8).

DATES: This decision is effective on March 25, 2015. Petitions to stay must be filed by March 5, 2015. Petitions for reconsideration must be filed by March 16, 2015.

ADDRESSES: Send an original and 10 copies of all pleadings, referring to Docket No. FD 35879 (Sub-No. 1) to: Surface Transportation Board, 395 E Street SW., Washington, DC 20423-0001. In addition, a copy of each pleading must be served on BNSF's representative: Karl Morell, Ball Janik LLP, Suite 225, 655 Fifteenth St. NW., Washington, DC 20005.

FOR FURTHER INFORMATION CONTACT: Joseph H. Dettmar, (202) 245-0395. [Assistance for the hearing impaired is available through the Federal Information Relay Service (FIRS) at (800) 877-8339.]

SUPPLEMENTARY INFORMATION: Additional information is contained in the Board's decision. Board decisions and notices are available on our Web site at “WWW.STB.DOT.GOV.”

Decided: February 18, 2015.
By the Board, Acting Chairman Miller and Vice Chairman Begeman.
Jeffrey Herzig,
Clearance Clerk.

[FR Doc. 2015-03598 Filed 2-20-15; 8:45 am]

BILLING CODE 4915-01-P